DEPARTMENT OF THE TREASURY

Internal Revenue Service

Quarterly Publication of Individuals, Who Have Chosen To Expatriate, as Required by Section 6039G

AGENCY: Internal Revenue Service (IRS), Treasury.

ACTION: Notice.

SUMMARY: This notice is provided in accordance with IRC section 6039G of the Health Insurance Portability and Accountability Act (HIPPA) of 1996, as amended. This listing contains the name of each individual losing United States citizenship (within the meaning of section 877(a) or 877A) with respect to whom the Secretary received information during the quarter ending March 31, 2021. For purposes of this listing, long-term residents, as defined in section 877(e)(2), are treated as if they were citizens of the United States who lost citizenship.

Last name | First name | Middle name/initials
ALTANIAN | KEVORK |
AMUNDSEN | CHERYL | LYNN
ANDRE | VERONIQUE | M
Androutsos | Michael Michail |
Arora | Anu |
BARRETT | ADRIAN | JOSEPH
BEAUDIN | SUSAN | MARIE
BECKMANN | LESLIE | MICHEL
BIANCHI | ROBERTO |
BIELITZA | MARC | PHILIPP
BLISS | ANDREW | CHRISTOPHER
BLUNDELL | NICOLA | A
BOLTE | MATHIEU |
BOWEN | PHILLIP | GEORGE FAWCETT
BOWMAN | CLAIRE | DANIELLE
BUORA | JACOPO |
CARDUCCI | MARGIE |
CARO | INGRID |
CERBULIS | KARLIS | ANDREJS
CERIMOVIC | AMIRA |
CHAI | CHANGHOON |
CHEN | HAIHUI |
CHEN | HSIU-MIN |
CHIASSON | NATHALIE | A
CLARK | SAMANTHA | E
COHEN | ORI |
CORAM | TRISTAN | E.
CORDERY | VALERIE | MARINA
DE PAULA | AUREO |
DESLANDES | HERVE |
DORMAN | JENNIFER | CARRIER
DORMAN, JR | ROBERT | EDWARD
Duggal | Sanjeev | Kumar
EICHAR | DALE | ALAN
EISER | ROBERT | ZENO
EMERSON | GIBRAN | EMANUEL
ERDKOENIG | ANGELIKA | C.
FERGUSON | LLOYD | W.
FERRANDON | SEBASTIEN | MARCEL
FERRARO | JOSEPH | MICHAEL
FINEBERG | DANIEL | DAVID
FINEBERG | DEBORAH | GAIL
FINEBERG | SIMON |
FRUEHWIRTH | DANIELA | MARIA
GALOUZEAU DE VILLEPIN | BRUNE | MARY BENOIT
GEEBELS | ANNELIES |
GERARD | INGRID | MARY
GILSON | ANOUK | MONIQUE JEAN
GODBOUT | SOPHIE |
GOLD | ADAM | JOSHUA
Good | Eric | Leonard
GRAUMAN NEANDER | JAN | ANDRE
GREENWOLD | LYNN |
GREENWOLD | STEPHEN | MICHAEL
GUINARD | CLAUDIA | IRENE ELFRIEDE
GUNTHARDT | ANJA | MARGARET
GURNEY | ELISABETH | A
Harrington | Judith |
Harrington | Norman |
HARRIS | ALAN | PAUL
HELY-HUTCHINSON | LUCINDA | CATHERINE
HENDRICKS | IMOGEN |
HOIZUMI | MASUMI |
HOIZUMI | YASUHIRO |
HOWLETT | RACHEL | ANNE RUTH
IMANISHI | RIKU |
IRELAND | PAMELA | LYNN
JANOSHALMI | TAMAS |
JARISLOWSKY | MARIKA | ANN
JOLLY | AARON | FRANCIS
JONES | EDMUND |
JOO | CHAN | GYU
JUAN | HUANG | YANG
JUN | MI | YOUNG
JUNGNELIUS | ANNETTE | G.
Kang | Byoungyup |
KANG | YANG | IM
KAO | GEOFFREY | EDWARD
KENNEDY | DOUGLAS | J
KENNEDY | JACQUELYN | AIRIKA
KENNEDY | JANE | S
KIM | SOOK | HEE
Kitamura | Atsushi |
KNELL | BETTINA | GERTRUDE
Knoop | Leticia |
Koshiro | Seiko |
KUBO | ATSUNORI |
KUDO | YUKO |
KUHN | ALEJANDRO |
KWON | WON | SHIK
LANDRY | ANNA | G
LAWRENCE | RHONDA | LYNN
LAY | PHILLI[P | F
LEE | HWEE | ING
LEE | JOOYOUNG |
LEE | MI | SEON
LEE | ROBERT |
LEE | YIN-HSUAN |
LEIGH | MARIE | JOSEPHINE
LEMONDE | PATRICE |
LENDERS | CAROLE | A
LEO | PATRICK | M
LEWTON-BRAIN | PETER |
LIBMAN | DANIEL | ROSS
LIN | YENHUA |
LIN | YUANQING |
LIND-STEIN | STACIE | ALENA
LINTERN | GAVAN | T.
LIVANOS | KALLI | ANGELIKI
LOMBARDI | BRUNA |
LOW | TIFFANY | YOKE YING
LOWY | SARA |
Lu | Jie |
LUTSCH | NICK NIKOLAUS |
MACGREGOR | ROSLYN | ANN
MADSEN | ANNETTE | GLEERUP
MAJIC | CHARLES | ALEXANDER
MALONEY | JANET |
MALONEY | JOSEPH |
MARTIN | CYNTHIA | KAY TELFER SMOLLETT
MARTIN | MARGARET |
MCCABE | WENDY | ANN
MCCLUNG | CORY |
MCGARVEY | KATHLEEN | ANN
MCGRADY | MATTHEW | P.
Medri | Dante |
MEROZ | CAROLINE | L
MICHNIEWICZ | DANIEL | ADAM
Miseur | Daniel |
MIYAMOTO | MITSUKO |
MIYAMOTO | YUTAKA |
MOORE | MARIA | KATHERINE
NAKAMURA | HITOMI |
NAKAMURA | NORIKO |
NAKATANI | AKIKO |
NAKATANI | NOBUYA |
NAKAYAMA | SANAE |
NESSETH | WENDY |
NIU | HUI | L
OBOUDIYAT | KIA |
OMER | IDO |
OSBORNE | ALFRED | ERNEST
PAPPAS | BESS | VASILIKI
PARK | JOUNG | CHUL
PATURI | SUDHARANI |
PEAT | ROBERT | D
PERDEW | INGRID |
PETERSEN | LEIF |
PETERSEN | SHERRY |
PETKOV | PETKO | ILIEV
PETTY | GEORGE |
PIASENTE | MARIA | TERESA
PICATOSTE | FERNANDO | D
PICHLER-BELLERI | KARIN |
PIERCE | CHRISTINE | MARIE
PINN | NAOMI |
Pollack | Gavin |
POLLARD | NAHANNI | RUSSELL
POURREYRON | PAMELA | MEISTER
PRAWIROATMODJO | SISWANTO |
PRECHT | ELISABETH |
RASMUSSEN | HELLE |
RATHBONE | ERIN | NICOLE
RICCELLI | CARLOS | A
RIVIERE-BARBIER | ANAELLE | APRIL
ROELLINGHOFF | GERRIT | LEON
SANTORO | GABRIEL |
Sartori | Cristina |
SCHADE | ROSEMARIE |
SCHNEIDER | BENJAMIN | FERDINAND ERIC
SCHUCH | ELKE | BERTA
SEIDITA | GIUSEPPE | ANTONIO
SHAKKOUR | MAYADA |
SHEN | ZHILING |
SHINOTSUKA | CHIAKI |
SHINOTSUKA | SHINICHI |
SIDDONS | CONNELL | HUGH
SIDUU SIDHU | RAJPAL | S
SIMONSEN | SVEN | E
SMITS VAN WAESBERGHE | PATRICK | W.
SOARES | DAVID | JOSEPH
SOLOMONS | SUSAN | JOAN
SONIER | ALAIN | CHRISTIAN LOUIS
SPROULE | JULIAN | G
STAEBLEIN | MARKUS |
STAEBLEIN | TANJA |
STANFORD | ROYDEN | JOSEPH
STEVENSON | SCOT | WINSTON
TAKAHASHI | HIROKO |
TANABE | SAYURI |
TESTINO | AMBER | OLSON
THERIAULT | WILMON |
TIN | LANCELOT | KWOK-LEUNG
TJARKS | WERNER |
TOOTIKIAN | ARMEN | JOSEPH
TOOTIKIAN | HAIG | HAGOP
TREASURYWALA | KATAYUN | A.
TUNG | KENNETH |
Ujike | Takandri Takanori |
URANO | SHINYA |
VAN BEERS | NATALIE | JOSEPHINE PETRA
VAN DER KAMP | CHRISTINA | M
Van Der Zwan | Natasca | A
VAN TONDER | GAVIN | J.
VANDERBERG | IAN | IVAN DENZLER
VEGA | VANESA | ELIZABETH
VICAT-BLANC | JEROME |
VOELMAN | EGBERT |
VOLL | TOIVO |
VON BONIN | KATINKA |
VON GUIONNEAU | CURT | ANTHONY
WALKER | TIMOTHY |
WALLRAFF | CHRISTOPHER | WILLIAM
WANG | NIANYONG |
WEED-KRUPA | KAREN | JACK
WILSON | ERIC | B.
WILSON | LESLIE | C.
WISEMAN | ZAVIE | P
WOELLHAF | NICOLA |
WOOD | DOROTHY | LOUISE BICKERSTETH
WORSNOP | PAUL | DAVID
WU | JIANTAO |
WUNDERWALD | SILKE | S
YEN | DAVID |
YONG | STEVEN | YEW CHOH
ZHANG | SHUCHUN |
ZHOU | WEI | W
ZHOU | XIAOJIE |

Dated: April 26, 2021.
Godofredo F. Burgos-rodriguez,
Manager Classification Team 82413, Examinations Operations—Philadelphia Compliance Services.

[FR Doc. 2021-08977 Filed 4-28-21; 8:45 am]

BILLING CODE 4830-01-P